DEPARTMENT OF COMMERCE

Patent and Trademark Office

Submission for OMB Review; Comment Request

The United States Patent and Trademark Office (USPTO) has submitted to the Office of Management and Budget (OMB) for clearance the following proposal for collection of information under the provisions of the Paperwork Reduction Act (44 U.S.C. Chapter 35).

Agency: United States Patent and Trademark Office (USPTO).

Title: Public User ID Badging (formerly Public Search Room Badging).

Form Number(s): PTO-2030.

Agency Approval Number: 0651-0041.

Type of Request: Extension of a currently approved collection.

Burden: 1,076 hours annually.

Number of Respondents: 9,360 responses per year.

Avg. Hours Per Response: The USPTO estimates that it will take the public approximately five minutes to gather the necessary information, prepare the form, and submit the completed application for a Public User ID or to renew or replace a Public User ID badge, and approximately ten minutes to supply any optional information to the USPTO staff, have the photograph taken, and be issued a Public User ID badge.

Needs and Uses: This information collection supports the Public User ID system used to manage the public's access to the Public Search Facilities and other office areas of the USPTO. In order to maintain the patent and trademark search facilities so that the information is available to the public, the USPTO uses an electronic badging system to issue plastic ID badges with a color photograph of the user, a user number, and an expiration date. The public uses this collection to request, renew, or replace a Public User ID badge in order to access the search facilities, its services, and other office areas of the USPTO. The USPTO uses this collection to identify the status of any existing badges for the user, update user information, and track the use of USPTO facilities and services.

Affected Public: Individuals or households, businesses or other for-profits, not-for-profit institutions, farms, the federal government, and state, local, or tribal governments.

Frequency: On occasion and annually for renewals.

Respondent's Obligation: Required to obtain or retain benefits.

OMB Desk Officer: David Rostker, (202) 395-3897.

Copies of the above information collection proposal can be obtained by calling or writing Susan K. Brown, Records Officer, Office of Data Management, Data Administration Division, USPTO, Suite 310, 2231 Crystal Drive, Washington, DC 20231, by phone at (703) 308-7400, or by e-mail at susan.brown@uspto.gov.

Written comments and recommendations for the proposed information collection should be sent on or before May 6, 2002, to David Rostker, OMB Desk Officer, Room 10202, New Executive Office Building, 725 17th Street NW., Washington, DC 20503.

Dated: March 27, 2002.
Susan K. Brown,
Records Officer, USPTO, Office of Data Management, Data Administration Division.

[FR Doc. 02-8098 Filed 4-3-02; 8:45 am]

BILLING CODE 3510-16-P